DEPARTMENT OF DEFENSE

Department of the Navy

Meeting of the Naval War College (NWC) Subcommittee of the Education for Seapower Advisory Board (E4SAB)

AGENCY: Department of the Navy, DoD.

ACTION: Notice of open meeting.

SUMMARY: The DoD is publishing this notice to announce that the following Federal Advisory Committee meeting of the NWC Subcommittee of the E4SAB, referred to as the Board of Advisors to the President of the Naval War College hereafter, referred to as the “Board” will take place.

DATES: Open to the public, Thursday, April 2, 2020 from 9:00 a.m. to 4:30 p.m. and on Friday, April 3, 2020 from 8:30 a.m. to 11:00 a.m.

ADDRESSES: The meeting will be held at the U.S. Naval War College, 686 Cushing Road, Newport, RI, 02841-1207. Individuals without a DoD Government Common Access Card require an escort at the meeting location.

FOR FURTHER INFORMATION CONTACT: Dr. Thomas J. Gibbons, Alternate Designated Federal Official (ADFO), 686 Cushing Road, Newport, RI, 02841-1207, telephone number (401) 841-4008, gibbonst@usnwc.edu.

SUPPLEMENTARY INFORMATION: This meeting is being held under the provisions of the Federal Advisory Committee Act (FACA) of 1972 (5 U.S.C., Appendix, as amended), the Government in the Sunshine Act of 1976 (5 U.S.C. 552b, as amended), and the General Services Administration's (GSA) Federal Advisory Committee Management Final Rule (41 CFR part 102-3).

Purpose of Meeting: The purpose of the Board, which reports all draft findings and recommendations to the E4SAB, is to focus on the NWC, and is necessary for the purpose of accreditation. The purpose of the E4SAB is to provide independent advice and recommendations to the Secretary of Defense, through the Secretary of the Navy, the Chief of Naval Operations, and the Presidents of the Naval Postgraduate School (NPS) and the NWC on matters related to the NPS and NWC. Matters include, but are not limited to organizational management, curricula, methods of instruction, facilities, and other matters of interest.

Agenda: The agenda for Thursday, April 2, 2020, is as follows:

9:00 a.m.-10:30 a.m. Update Briefing—NWC Leadership

10:30 a.m.-2:45 p.m. Break

2:45 p.m.-4:30 p.m. Meet with NWC Faculty Members

The agenda for Friday is as follows:

8:30 a.m.-11:00 a.m. Board Business and Discussion of Findings and Recommendations

11:00 a.m. Meeting Adjourn

The most recent public agenda and other documentation may be obtained from Dr. Thomas J. Gibbons at (401) 841-4008 or gibbonst@usnwc.edu.

Meeting Accessibility: Pursuant to FACA and 41 CFR 102-3.140, this meeting is open to the public. Seating is limited and is on a first-come basis. All members of the public who wish to attend the public meeting must contact Dr. Thomas J. Gibbons at the email or telephone number listed above no later than March 19, 2020 to register and make arrangements for an escort, if necessary. Individuals requiring special accommodations to access the public meeting should contact Dr. Thomas J. Gibbons at least 10 business days prior to the meeting so that appropriate arrangements can be made.

Written Statements: In accordance with Section 10(a)(3) of the FACA and 41 CFR 102-3.105(j) and 102-3.140, interested persons may submit a written statement for consideration at any time, but should be received by the ADFO a least 5 business days prior to the meeting date so that the comments may be made available to the Board for their consideration prior to the meeting. Written statements should be submitted via email to Dr. Thomas J. Gibbons at gibbonst@usnwc.edu in either Adobe or Microsoft Word format. Please note that since the Board operates under the provisions of the FACA, as amended, all submitted comments and public presentations will be treated as public documents and will be made available for public inspection, including, but not limited to, being posted on the board website.

Dated: March 10, 2020.
D.J. Antenucci,
Commander, Judge Advocate General's Corps, U.S. Navy, Federal Register Liaison Officer.

[FR Doc. 2020-05161 Filed 3-12-20; 8:45 am]

BILLING CODE 3810-FF-P